DEPARTMENT OF COMMERCE

National Oceanic and Atmospheric Administration

[I.D. 011003A]

NOAA Strategic Plan

AGENCY: Office of Strategic Planning (OSP), National Oceanic and Atmospheric Administration (NOAA), Commerce.

ACTION: Notice of intent to prepare a new NOAA Strategic Plan; request for comments.

SUMMARY: The National Oceanic and Atmospheric Administration(NOAA) is the United State's premier agency for environmental assessment and prediction and management providing broad benefits to the Nation in the areas of economy, public safety and the environment. NOAA has recently begun the process of creating a new Strategic Plan for the agency responding to growing needs of the Nation for environmental information and management. One of the objectives of the new NOAA Strategic Plan is to directly address the President's Management Agenda including principles for a citizen-centered, results oriented, and market-based government. To that end, NOAA has conducted a series of stakeholder and employee workshops in Seattle, New Orleans, Boston, Washington, DC, Boulder, Cleveland and Puerto Rico over the past several months and has used this input to lay the foundation for drafting the new NOAA Strategic Plan. Important themes that emerged from these meetings were ecosystem approaches to coastal and ocean resource management, climate variability and change and weather and water information needs as well as agency-wide cross-cutting priorities that will enhance NOAA's mission and provide leadership in the environmental sciences to better serve America in the 21st century. When finalized in early 2003, after public and internal review, the new NOAA Strategic Plan will become the blueprint for the direction of NOAA's core and future missions and will become institutionalized in every aspect of NOAA's resource planning and priority setting.

DATES: Public comments on this document must be received at the appropriate email address (see ADDRESSES) on or before 5 p.m., local time, February 14, 2003.

ADDRESSES: The NOAA Draft Strategic Plan is available at the OSP web site: http://www.osp.noaa.gov. Comments may be sent directly to the OSP email address strategic.planning@noaa.gov or visit the OSP website to submit comments. Comments will not be accepted if submitted via phone or fax.

FOR FURTHER INFORMATION CONTACT: James Burgess, Office of Strategic Planning (OSP), National Oceanic and Atmospheric Administration (NOAA), Herbert C. Hoover Building (HCHB), Room 6121, 14th and Constitution Ave., NW, Washington, DC 20230, phone: 202-482-5181, fax: 202-501-3024.

SUPPLEMENTARY INFORMATION:

Status

NOAA encourages all stakeholders and users to review the draft Strategic Plan. All comments must be submitted by individual participants (persons, businesses, organizations, etc.). Group consensus comments will not be accepted. The discussion draft of the NOAA Strategic Plan and directions for submitting comments have been posted on the website. Comments, questions and suggestions are welcomed from both scientific and stakeholder communities. All comments received will be reviewed and considered in the final drafting of NOAA's new Strategic Plan.

Dated: January 16, 2003.
James P. Burgess, III
Acting Director, Office of Strategic Planning, National Oceanic and Atmospheric Administration.

[FR Doc. 03-1464 Filed 1-22-03; 8:45 am]

BILLING CODE 3510-12-S